Executive Order 14314 of July 3, 2025

Making America Beautiful Again by Improving Our National Parks

By the authority vested in me as President by the Constitution and the laws of the United States of America, it is hereby ordered:

Section 1. Policy. From the awe-inspiring Grand Canyon to the tranquility of the Great Smoky Mountains, America's national parks have provided generations of American families with unforgettable memories. It is the policy of my Administration to preserve these opportunities for American families in future generations by increasing entry fees for foreign tourists, improving affordability for United States residents, and expanding opportunities to enjoy America's splendid national treasures.

Sec. 2. Making America Beautiful Again by Improving Our National Parks. (a) The Secretary of the Interior shall develop a strategy to increase revenue and improve the recreational experience at national parks by appropriately increasing entrance fees and recreation pass fees for nonresidents in areas of the National Park System that charge entrance fees or recreation pass fees as defined in 16 U.S.C. 6801. Additionally, to the extent consistent with applicable law, the Secretary of the Interior, working with the Secretary of Agriculture as appropriate, shall take steps to increase the prices at which the America the Beautiful Pass—the National Parks and Federal Recreational Lands Pass—and any site-specific agency or regional multi-entity passes are sold to nonresidents.

(b) The Secretary of the Interior shall use any increased fee revenue generated pursuant to subsection (a) of this section to improve the infrastructure of, or otherwise enhance enjoyment of or access to, America's Federal recreational areas, consistent with 16 U.S.C. 6807.

(c) The Secretary of the Interior, working with the Secretary of Agriculture as appropriate, shall take steps to improve services and affordability for United States residents visiting national parks, as consistent with applicable law.

(d) The Secretary of the Interior, working with the Secretary of State, shall work to encourage international tourism to America's national parks and outdoor recreation areas, and especially wider utilization of America's many such areas that may be underutilized.

(e) The Secretary of the Interior shall review the maintenance backlog within the National Park Service and take all appropriate action to fully implement the National Parks and Public Land Legacy Restoration Fund established in the Great American Outdoors Act (Public Law 116-152), invest in the infrastructure of national parks, and increase visitor capacity to allow more Americans to visit national parks.

(f) The Secretary of the Interior shall review all of the Department of the Interior's rules and policies related to public use of national parks and take actions consistent with applicable law to ensure that the National Park Service manages national parks consistent with the policy of this order. The Secretary of the Interior shall review all of the Department's recreational access rules and take steps to rescind any that unnecessarily restrict recreation in national parks. In conducting this review, the Secretary of the Interior shall especially scrutinize all recreational access rules or other restrictions promulgated or enacted during the prior administration. The Secretary of the Interior shall take appropriate actions to grant American residents preferential treatment with respect to any remaining recreational access rules, including permitting or lottery rules, consistent with applicable law.

Sec. 3. Revocation. The Presidential Memorandum of January 12, 2017 (Promoting Diversity and Inclusion in Our National Parks, National Forests, and Other Public Lands and Waters), is hereby revoked.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of the Interior.

THE WHITE HOUSE,

July 3, 2025.

[FR Doc. 2025-12775

Filed 7-8-25; 8:45 am]

Billing code 4310-10-P